DEPARTMENT OF COMMERCE

National Oceanic and Atmospheric Administration

RIN 0648-XN36

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Research Steering Committee (RSC), in March, 2009, to consider actions affecting New England fisheries in the exclusive economic zone (EEZ). Recommendations from this group will be brought to the full Council for formal consideration and action, if appropriate.

DATES: The meeting will be held on Wednesday, March 4, 2009, at 9 a.m.

ADDRESSES: The meeting will be held at the The Westin Hotel, 70 Third Street, Waltham, MA 02451; telephone: (781) 290-5600; fax: (781) 890-5959.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Council's RSC will discuss strategic planning with respect to the region's cooperative research efforts. Cooperative research has been undertaken in various forms throughout New England for 10 years. In order to learn from and enhance the collaborative relationships that have developed between fishermen and scientists, as well as obtain meaningful information to support fisheries management, RSC members will discuss their views on the direction and future of cooperative research. While the RSC's discussion is public, there also will be a formal stakeholder session on cooperative research strategic planning on Wednesday afternoon at 1:30 p.m. for any interested members of the public who would like to participate. The RSC may consider other topics at their discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: February 11, 2009.
Tracey L. Thompson,
Acting Director, Office of Sustainable Fisheries, National Marine Fisheries Service.

[FR Doc. E9-3303 Filed 2-13-09; 8:45 am]

BILLING CODE 3510-22-S